DEPARTMENT OF HEALTH AND HUMAN SERVICES

[Document Identifier: OS-0990-New]

Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60-days.

Proposed Project: Attitudes Toward Electronic Health Information Exchange and Associated Privacy and Security Aspects—OMB No. 0990-NEW-Office of the National Coordinator for Health Information Technology.

Abstract: Electronic health information exchange promises an array of potential benefits for individuals and the U.S. health care system through improved health care quality, safety, and efficiency. At the same time, this environment also poses new challenges and opportunities for protecting health information. Health information technology and electronic health information exchange may also provide individuals with new, more effective methods to engage with their health care providers and affect how their health information may be exchanged. Based on findings from a comprehensive literature review, little is known about individuals' attitudes toward electronic health information exchange and the extent to which they are interested in determining by whom and how their health information is exchanged. The proposed information collection will permit us to better understand individuals' attitudes toward electronic health information exchange and its associated privacy and security aspects as well as inform policy and programmatic objectives.

The Office of the National Coordinator for Health Information Technology (ONC) is proposing to conduct a nationwide survey which will use computer-assisted telephone interviews (CATI) to interview a representative sample of the general U.S. population. Data collection will take place over the course of eight weeks. The data will be analyzed using statistical methods and a draft report will be prepared. ONC will hold a web seminar prior to the publication of the final report to convey the findings to the general public. A final report will be posted on http://healthit.hhs.gov which will include the results and analysis.

Estimated Annualized Burden Table
Forms | Type of respondent | Number of respondents | Number of responses per respondent | Average burden hours per response | Total burden hours
Screening Form | Non-Participating Household (Screened) | 22,845 | 1 | 2/60 | 761
Interview Form | Eligible Household (Completes Survey) | 2,570 | 1 | 14/60 | 600
Total |  |  |  |  | 1361

Seleda Perryman,
Office of the Secretary, Paperwork Reduction Act Reports Clearance Officer.

[FR Doc. E9-25935 Filed 10-27-09; 8:45 am]

BILLING CODE 4150-45-P